DEPARTMENT OF HEALTH AND HUMAN SERVICES

Office of the Secretary

Office of Public Health and Science; Office of Minority Health; Availability of Funds for Health Disparities Grants in Minority Health

AGENCY: DHHS, Office of the Secretary, Office of Public Health and Science, Office of Minority Health.

ACTION: Notice of Availability of Funds and Requests for Applications for Health Disparities Grants In Minority Health.

Program Information

Program Title: Health Disparities Grants In Minority Health.

OMB Catalog of Federal Domestic Assistance: The Catalog of Federal Domestic Assistance number for this program is 93.100.

Authority: This program is authorized under section 1707(e)(1) of the Public Health Service Act (PHS), as amended.

Purpose: The purpose of the Fiscal Year (FY) 2001 Health Disparities Grants In Minority Health is to reduce health disparities among racial and ethnic populations through local pilot and small-scale projects which address a demonstrated health problem or health related issue. This program is intended to demonstrate the merit of using local organizations to develop, implement and conduct pilot or small-scale community-based projects which address a wide range of health problems and issues related to health disparities in local minority communities.

Eligible Applicants: To qualify for funding, an applicant must be a private nonprofit, minority or public community-based organization which addresses health and human services, Historically Black College or University (HBCU), Hispanic Serving Institution (HSI), or Tribal College or University (TCU) (see definitions found in this announcement).

Organizations are not eligible to receive funding from more than one Office of Minority Health (OMH) grant program concurrently. An organization may submit only one proposal under this announcement.

Note: National, state-wide and regional organizations may not apply for this grant.

Local affiliates of national, state-wide or regional organizations that meet the definition of a minority community-based organization are eligible to apply.

Availability of Funds: About $1 million is expected to be available for award in FY 2001. It is expected that 20 to 30 awards will be made. Support may be requested for a total project period of 1 or 2 years. Those applicants chosen through the competitive review process:

• Are to begin their projects on September 30, 2001.

• Will receive an award up to $50,000 total costs (direct and indirect) for a 12 month period.

• Will be able to receive a non-competing continuation award for an additional 1 year. After year 1, funding is based on:

—The amount of money available;

—Success or progress in meeting project objectives; and

—An initial application that requests 2 years of support.

Note: For non-competing continuation awards, grantees must submit a continuation application, written reports, and continue to meet the established funding guidelines.

• Continuation awards are expected to be awarded up to $50,000 (direct and indirect). The actual funding level will depend on the availability of funds.

Use of Grant Funds: Budgets up to $50,000 total costs (direct and indirect) may be requested per year to cover costs of:

• Personnel

• Consultants

• Equipment

• Supplies

• Grant related travel

• Other grant related costs

Funds may not be used for:

• Activities that may compromise privacy and confidentiality of the target population

• Building alterations or renovations

• Conferences

• Construction

• Fund raising activities

• Job training

• Medical treatment

• Political education and lobbying

• Religious activities

• Studies involving human subjects

• Vocational rehabilitation

Note: All budget requests must be fully justified in terms of the proposed objectives and activities.

Background

The DHHS, OMH is committed to working with CBOs (community-based organizations) to improve the health of racial and ethnic minority populations through programs that address health disparities and gaps. The OMH serves as the focal point within the DHHS for service demonstrations, coalition and partnership building, and related efforts to address the health needs of racial and ethnic minorities.

To that end, OMH is implementing the Health Disparities Grants In Minority Health program to address a wide range of health problems, gaps in service and issues that affect the health and well-being of local minority communities.

It is anticipated that this program will strengthen existing efforts of grassroot CBOs which have been providing innovative approaches that address a wide range of health issues affecting their local minority communities.

Through the annual issues of Health, United States and Healthy People 2000, it is reported that the overall health of the Nation continues to steadily and significantly improve. Yet, these reports also indicate that racial and ethnic minorities have not benefitted equally in this progress over time.

The fact remains that disparities in the burden of death and illness experienced by Blacks or African Americans, Hispanics or Latinos, American Indians or Alaska Natives, Asians, Native Hawaiians or Other Pacific Islanders, as compared with the United States population as a whole, have persisted, and, in many areas, are growing.

There are many examples of these health disparities including:

• Persistent rates of infant mortality. It is found that infant mortality is more than twice as high for Blacks or African Americans than for whites.¹

¹ Health, United States, U.S. Department of Health and Human Services, Centers for Disease Control and Prevention, National Center for Health Statistics, DHHS Publication Number (PHS) 98-1232.

• Cerebrovascular disease death rates for Black or African American men ages 45-54, four times that of white counterparts.

• Death rates from HIV infection more than five times higher for Black or African American men than white men.²

² Ibid.

• Cervical cancer fatalities that are disproportionately high among Hispanic or Latino and Black or African American women.³ ⁴

³ Becker, et al., “Cervical Cancer Incidence and Mortality in New Mexico's Hispanics, American Indians and Non-Hispanic Whites”, West J Med 156:376-379, April 1992.

⁴ Racial/Ethnic Patterns of Cancer in the United States, 1988-1992. Surveillance, Epidemiology and End Results (SEER) Program, National Cancer Institute.

• The incidence of cervical cancer five times higher among Vietnamese women than white women.⁵

⁵ American Cancer Society, Cancer Facts and Figures for Minority Americans, 1991.

• The prevalence of diabetes in Blacks or African Americans approximately 70 percent higher than whites. The rate for Hispanics or Latinos nearly double that of whites, and among some American Indian or Alaska Native tribes as high as 50 percent.⁶ ⁷

⁶ CDC National Diabetes Fact Sheet, November 1, 1997.

⁷ American Diabetes Association, 1995.

In terms of health services, racial and ethnic minorities are less likely to:

• Be insured ⁸

⁸ Colins, et al., U.S. Minority Health: A Chartbook, New York, NY: The Commonwealth Fund, 1999.

• Have a usual source of health care

• Receive check-ups

• Be immunized

• Be routinely screened for cancer ⁹

⁹ Healthy People 2000, U.S. Department of Health and Human Services, DHHS Publication No. (PHS) 91-50212.

• Receive treatment for HIV infections and other diseases and conditions ¹⁰ ¹¹

¹⁰ HIV Cost and Services Utilization Study, Agency for Health Care Policy and Research, 1999.

¹¹ Hall, A.G., et al., Employer-Sponsored Health Insurance: Implications for Minority Workers. New York, NY: The Commonwealth Fund: 1999.

The DHHS supports the effort to eliminate disparities in health status experienced by racial and ethnic minority populations by year 2010. The 28 focus areas embodied in Healthy People 2010, are targeted for specific improvements. To learn more information about the health disparities that exist among racial and ethnic minorities in the United States today, read applicable sections of Healthy People 2010. (See the section on Healthy People 2010 in this announcement for information on how to obtain a copy.) Applicants may elect to address any of the 28 focus areas contained in Healthy People 2010 or other health problems where there is a health disparity in a local minority community.

Note: The Healthy People 2010 focus areas will also be listed in the grant application kit.

Project Requirements: Each project funded under this demonstration program is to:

1. Address at least 1, but no more than 3, of health focus areas addressed in Healthy People 2010, or other documented health problems or issues that affect the targeted local minority group(s);

2. Identify problems, such as gaps in services, or issues affecting the targeted area which will be addressed by the proposed project.

3. Identify existing resources in the targeted area which will be linked to the proposed project.

4. Implement an innovative approach to address the problem(s).

Application Process

Application Kit

• For this grant, Form PHS 5161-1 (Revised June 1999 and approved by OMB under Control Number 0937-0189) must be used.

• An applicant is advised to pay close attention to the specific program guidelines and general instructions provided in the application kit.

• To get an application kit, write to: Ms. Karen Campbell, Acting Grants Management Officer, Division of Management Operations, Office of Minority Health, Rockwall II Building, Suite 1000, 5515 Security Lane, Rockville, MD 20852, Or call Karen Campbell at: (301) 594-0758

Where to Send Applications: Send the original and 2 copies of the complete grant application to: Ms. Karen Campbell, Acting Grants Management Officer, Division of Management Operations, Office of Minority Health, Rockwall II Building, Suite 1000, 5515 Security Lane, Rockville, MD 20852.

Application Deadline: To receive consideration, grant applications must be received by the OMH Grants Management Office by May 21, 2001. Applications will be considered as meeting the deadline if they are: (1) Received on or before the deadline date, or (2) postmarked on or before the deadline date and received in time for orderly processing. A legibly dated receipt from a commercial carrier or U.S. Postal Service will be accepted in lieu of a postmark. Private metered postmarks will not be accepted as proof of timely mailing. Applications submitted by facsimile transmission (FAX) or any other electronic format will not be accepted. Applications which do not meet the deadline will be considered late and will be returned to the applicant unread.

How to Get Help: In addition to contacting Karen Campbell for application kits, she may be contacted for technical assistance on budget and business aspects of the application. For questions on the program and assistance in preparing the grant proposal, contact: Ms. Cynthia H. Amis, Director, Division of Program Operations, Office of Minority Health, Rockwall II Building, Suite 1000, 5515 Security Lane, Rockville, MD 20852. Or call: Cynthia Amis at (301) 594-0769.

For additional assistance contact the OMH Regional Minority Health Consultants listed in the grant application kit.

For health information call the OMH Resource Center at 1-800-444-6472.

Review of Applications

• Applications will be screened upon receipt. Applications that are not complete or do not conform to or address the criteria in the announcement will be returned without comment.

• Each applicant may submit no more than one proposal under this announcement.

• Organizations submitting more than one proposal will be deemed ineligible. The proposals will be returned without comment.

• Accepted applications will be reviewed for technical merit in accordance with PHS policies.

• Applications will be evaluated by an Objective Review Panel. Panel members are chosen for their expertise in minority health and their understanding of the unique health problems and related issues confronted by racial and ethnic minority populations in the United States.

Application Review Criteria:

The technical review of applications will consider the following 5 generic factors.

Factor 1: Background (15%)

• Relevance of the identified health problem(s) or health issue(s) to the 28 focus areas identified in Healthy People 2010 where there is a health disparity

• Demonstrated need within the proposed community and target population

• Approach for bringing together minority community-based resources

• Extent to which the applicant demonstrates access to the target minority community(ies), and whether it is well positioned and accepted within the community(ies) to be served

• Extent and documented outcomes of past efforts and activities with the target population

Factor 2: Objectives (15%)

• Merit of the objectives to the stated problem and intended outcome

• Ability of objectives to be measured

• Attainability of the objectives in the stated time frames

Factor 3: Methodology (35%)

• Appropriateness of the overall approach, and likelihood of successful implementation of the project

• Logic and sequencing of the planned approach, and appropriateness of specific activities for each objective

• Adequate time allowed to accomplish the proposed activities

Factor 4: Evaluation (20%)

• Thoroughness, feasibility, and appropriateness of the evaluation design, data collection, and analysis procedures for each objective

• Clarity of the intent and plans to document the activities and their outcomes

• Potential for replication of the project for similar target populations and communities

Factor 5: Management Plan (15%)

• Applicant organization's capability to manage and evaluate the project as determined by:

—The qualifications of proposed staff or requirements for “to be hired” staff

—Staff level of effort

—Management experience of the applicant

—Clarity of the applicant's organizational chart

Award Criteria: Funding decisions will be determined by the Deputy Assistant Secretary for Minority Health of the OMH and will take under consideration:

• The recommendations and ratings of the review panel

• Geographic and racial/ethnic distribution

• Health disparity(ies) addressed

• Whether the proposed project will take place in Empowerment Zones and Enterprise Communities

Reporting and Other Requirements

General Reporting Requirements

A successful applicant under this notice will submit: (1) Progress reports; (2) an annual Financial Status Report; and (3) a final progress report and Financial Status Report in the format established by the OMH, in accordance with provisions of the general regulations which apply under 45 CFR Part 74.51-74.52, with the exception of State and local governments to which 45 CFR Part 92, Subpart C reporting requirements apply.

Provision of Smoke-Free Workplace and Non-use of Tobacco Products by Recipients of PHS Grants

The PHS strongly encourages all grant recipients to provide a smoke-free workplace and to promote the non-use of all tobacco products. In addition, Public Law 103-227, the Pro-Children Act of 1994, prohibits smoking in certain facilities (or in some cases, any portion of a facility) in which regular or routine education, library, day care, health care or early childhood development services are provided to children.

Public Health System Reporting Requirements

This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) A copy of the face page of the application (SF 424), and (b) a summary of the project (PHSIS), not to exceed one page, which provides: (1) A description of the population to be served, (2) a summary of the services to be provided, and (3) a description of the coordination planned with the appropriate State or local health agencies. Copies of the letters forwarding the PHSIS to these authorities must be contained in the application materials submitted to the Office of Minority Health.

State Reviews

This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the OMH Grants Management Officer.

The OMH does not guarantee that it will accommodate or explain its responses to State process recommendations received after that date. (See “Intergovernmental Review of Federal Programs” Executive Order 12372 and 45 CFR Part 100 for a description of the review process and requirements).

Healthy People 2010

The PHS is committed to achieving the health promotion and disease prevention objectives of Healthy People 2010, a PHS-led national activity announced in January 2000 to eliminate health disparities and improve the years and quality of life. More information on the Healthy People 2010 objectives may be found on the Healthy People 2010 web site: http://www.health.gov/healthypeople. Copies of the Healthy People 2010 Volumes I and II can be purchased by calling (202) 512-1800 (cost $70.00 for the printed version or $19.00 for the CDROM). Another reference is the Healthy People 2000 Review 1998-99.

For 1 free copy of the Healthy People 2010, contact: The National Center for Health Statistics (NCHS), Division of Data Services, 6525 Belcrest Road, Hyattsville, MD 20782-2003, Or telephone (301) 458-4636 and ask for DHHS Publication No. (PHS) 99-1256.

This document may also be downloaded from the NCHS web site: http://www.cdc.gov/nchs.

Definitions

For purposes of this grant announcement, the following definitions are provided:

Community-Based Organization: Private, nonprofit organizations and public organizations that are representative of communities or significant segments of communities where the control and decision-making powers are located at the community level.

Hispanic Serving Institutions: Any local education agency or institution of higher education, respectively, whose student population is more than 25 percent Hispanic (Executive Order 12900, February 22, 1994, Education Excellence for Hispanic Americans, Section 5).

Historically Black Colleges and Universities: Institutions established prior to 1964, whose principal mission was, and is, the education of Black Americans. (National Center for Education Statistics. Compendium: Historically Black Colleges and Universities: 1976-1994. September 1996. [NCES 96-902]).

Minority Community-Based Organization: Private, nonprofit, community-based organizations or local affiliates of national organizations that have: a governing board composed of 51 percent or more racial/ethnic minority members and a significant number of minorities employed in key program positions.

Minority Populations

• American Indian or Alaska Native

• Asian

• Black or African American

• Hispanic or Latino

• Native Hawaiian or Other Pacific Islander

Tribal Colleges and Universities: Those institutions cited in section 532 of the Equity in Education Land-Grants Status Act of 1994 (U.S.C. 301 note) or that qualify for funding under the Tribally Controlled Community College Assistance Act of 1978, (25 U.S.C. 1801 et seq.), and Navajo Community College, authorized in the Navajo Community College Assistance Act of 1978, Public Law 95-471, Title II (25 U.S.C. 640a note).

(Revision to the Standards for the Classification of Federal Data on Race and Ethnicity, Federal Register, Vol. 62, No. 210, pg. 58782, October 30, 1997).
Dated: March 8, 2001.
Nathan Stinson, Jr.,
Deputy Assistant Secretary for Minority Health.

[FR Doc. 01-6772 Filed 3-19-01; 8:45 am]

BILLING CODE 4160-17-P